DEPARTMENT OF HOUSING AND URBAN DEVELOPMENT

[Docket No. FR-6086-N-09]

RIN 2577-AD05

Economic Growth Regulatory Relief and Consumer Protection Act: Implementation of National Standards for the Physical Inspection of Real Estate (NSPIRE); Extension of NSPIRE Compliance Date for HCV, PBV and Section 8 Moderate Rehab and CPD Programs

AGENCY: Office of the Assistant Secretary for Public and Indian Housing, U.S. Department of Housing and Urban Development (HUD); Office of the Assistant Secretary for Community Planning and Development, U.S. Department of Housing and Urban Development (HUD).

ACTION: Notice.

SUMMARY: This notice further extends the compliance date for HUD's National Standards for the Physical Inspection of Real Estate (NSPIRE) final rule for the Housing Choice Voucher (HCV), Project Based Voucher (PBV) and Section 8 Moderate Rehabilitation programs, and for the HOME Investment Partnerships Program (HOME) and Housing Trust Fund (HTF), Housing Opportunities for Persons With AIDS (HOPWA), Emergency Solution Grants (ESG) and Continuum of Care (COC) programs (“CPD programs”), until October 1, 2025. HUD is taking this action to allow Public Housing Authorities (PHAs), jurisdictions, participants, recipients, and grantees additional time to implement HUD's NSPIRE standards. This is the second extension of this compliance date.

DATES:

Compliance Date: Jurisdictions, participants, and grantees subject to 24 CFR parts 92, 93, 574, 576, 578, 882, 982, and 983 are not required to comply with the changes to these parts in the NSPIRE final rule until October 1, 2025.

FOR FURTHER INFORMATION CONTACT:

Regarding the HCV and PBV programs: Dana M. Kitchen, Real Estate Assessment Center, Office of Public and Indian Housing, Department of Housing and Urban Development, 550 12th Street SW, Suite 100, Washington, DC 20410-4000; telephone 202-708-1112 (this is not a toll-free number), NSPIRE@hud.gov.

Regarding CPD programs: Caitlin Renner, Supervisory Affordable Housing Specialist, Room 7160, Department of Housing and Urban Development, 451 Seventh Street SW, Washington, DC 20410-7000; telephone (202) 708-2684. (This is not a toll-free number).

HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

I. Background

PHAs administering the HCV and PBV programs currently use the Housing Quality Standards (HQS) for inspections, which are defined at 24 CFR 982.401. The Economic Growth Regulatory Relief and Consumer Protection Act: Implementation of National Standards for Physical Inspection of Real Estate (NSPIRE) final rule (“NSPIRE final rule”) was published on May 11, 2023 (88 FR 30442). The NSPIRE final rule included amendments to 24 CFR parts 982 and 983 effective October 1, 2023. For CPD programs, the NSPIRE final rule included amendments to 24 CFR parts 92, 93, 570, 574, 576, and 578 to conform their various inspection requirements to NSPIRE and established an effective date for these amendments of October 1, 2023. In September 2023, HUD delayed the compliance date for CPD programs (88 FR 63971) and for the HCV and PBV programs (88 FR 66882) until October 1, 2024, to allow PHAs, jurisdictions, participants, recipients, and HUD grantees additional time for implementation.

II. Basis for Delay of Compliance Date

Through this notice, HUD further delays the compliance date for CPD programs and for the HCV and PBV programs until October 1, 2025. HUD encourages any PHA, participating jurisdiction, or grantee that is ready to implement NSPIRE to do so at their earliest convenience. However, HUD has determined that additional time is necessary for some PHAs to implement NSPIRE for the HCV, PBV, and Moderate Rehabilitation (Mod Rehab) programs. This will provide PHAs with additional time to train staff and communicate with landlords and give HUD more time to provide additional technical resources needed for PHAs to transition to the NSPIRE standards. PHAs have reported to HUD that they are still recovering from the effects of the COVID-19 pandemic on their operations and are struggling to recruit and retain private landlords to participate in the HCV program. PHAs have also reported that staff time is being dedicated to administrative changes relating to the Housing Opportunity through Modernization Act (HOTMA), Public Law 114-201, 130 Stat. 782, which has impacted their ability to implement a new inspection protocol. Additionally, private software vendors have not finished their inspection products for PHAs, and HUD has not released its updated inspection software for HCV inspections.

HUD is also delaying the compliance date for CPD programs to allow jurisdictions, participants, recipients, and grantees that also administer housing or rental assistance, and that may rely on inspections performed under the HCV or PBV programs, to align their implementation timelines. As stated in the last compliance date extension for CPD programs, HUD intends to publish standards specific to each of the several CPD programs before the compliance date. These notices have not yet been published, and it will be a challenge for participating jurisdictions, recipients and grantees to revise their inspection procedures in time.

III. Instructions for PHAs Under the HCV, PBV and Section 8 Mod Rehab Programs

Only PHAs who will implement NSPIRE prior to the new compliance date of October 1, 2025, must notify HUD of the date on which they plan to transition to NSPIRE. This notification must be sent via email to NSPIREV_AlternateInspection@hud.gov with a courtesy copy to their Field Office representative. The email's subject line must read “Notification of Extension of HQS, [PHA code]” and the body of the email should include the PHA name, PHA code, and what date the PHA tentatively plans to implement NSPIRE (which may be no later than October 1, 2025).

PHAs are reminded that the NSPIRE Standards ¹ for installing carbon monoxide devices and smoke alarms will still apply, as they implement statutory mandates under the Consolidated Appropriations Act, 2021 ² and 2023,³ respectively. The NSPIRE Standard for smoke alarms will be updated for the new smoke alarm requirements before the statutory compliance date of December 29, 2024.

¹ REAC NSPIRE Standards are posted at https://www.hud.gov/program_offices/public_indian_housing/reac/nspire/standards.

² Section 101, “Carbon Monoxide Alarms or Detectors in Federally Insured Housing” of Title I of Division Q, Financial Services Provisions and Intellectual Property, of the Consolidated Appropriations Act, 2021, Public Law 116-260, 134 (2020).

³ Section 601, “Smoke Alarms in Federally Assisted Housing” of Title VI of Division AA, Financial Services Matters, of the Consolidated Appropriations, 2023, Public Law No 117-328 (2022).

IV. Instructions for HOME Participating Jurisdictions and HTF Grantees

As stated in the previous compliance date extension for CPD, HOME participating jurisdictions and HTF grantees should prepare for the compliance date by updating property standard regulatory citations and requirements in written agreement templates with State recipients, subrecipients, and project owners, as required by 24 CFR 92.504(c) and 24 CFR 93.404(c).

In addition, participating jurisdictions and HTF grantees that intend to comply with the changes in the NSPIRE final rule as of the effective date should review the deficiencies established in the NSPIRE Standards notice at 88 FR 40832 and compare these requirements to their existing rehabilitation and property standards and their inspection procedures and checklists. While HUD intends to publish a subset of the deficiencies in the NSPIRE Standards that are applicable to HOME and HTF projects, participating jurisdictions and HTF grantees that implement the changes in the NSPIRE final rule before publication of the subset of deficiencies for HOME and HTF must implement the full set of deficiencies in the NSPIRE Standards in their rehabilitation and ongoing property standards and policies and procedures. Further, participating jurisdictions and HTF grantees may not implement the changes in the NSPIRE final rule until such rehabilitation and ongoing property standards and policies and procedures are updated consistent with NSPIRE.

V. Instructions for CoC, ESG, and HOPWA Programs

CoC and ESG program recipients and HOPWA grantees may apply the NSPIRE standards at 88 FR 40832 before October 1, 2025, provided that their program documents reflect the standards they are using and the date of transition to those standards. Otherwise, CoC and ESG recipients and HOPWA grantees that are not ready to make the transition to the new standards will be expected to adhere to the former program requirements until the new compliance date. However, when HUD issues the standards specific to the HOPWA, ESG and CoC programs, all grantees and recipients will be encouraged to prepare for the compliance date by updating their policies and procedures to reflect the program-specific standards.

HOPWA grantees are reminded of the requirements for installing carbon monoxide devices and smoke alarms as required by the Consolidated Appropriations Act, 2021 and 2023, respectively. HUD will update the NSPIRE Standard for the new smoke alarm requirements before the statutory compliance date of December 23, 2024.

VI. Conclusion

Accordingly, HUD revises the October 1, 2024, compliance date for the changes made to 24 CFR parts 92, 93, 574, 576, 578, 882, 982, and 983 to October 1, 2025, at which time PHAs, jurisdictions, grantees, recipients, and participants subject to these parts must comply with the NSPIRE final rule. Until October 1, 2025, PHAs, jurisdictions, grantees, recipients and participants subject to these parts may instead choose to comply with the provisions of these parts that were amended by the NSPIRE final rule as they existed prior to October 1, 2023.

Maria Claudette Fernandez,
General Deputy Assistant Secretary for Community Planning and Development.
Dominique Blom,
General Deputy Assistant Secretary for Public and Indian Housing.

[FR Doc. 2024-14718 Filed 7-3-24; 8:45 am]

BILLING CODE 4210-67-P